DEPARTMENT OF TRANSPORTATION

Federal Aviation Administration

14 CFR Part 99

[Docket No. FAA-2001-10693]

RIN 2120-AH25

Security Control of Air Traffic

AGENCY: Federal Aviation Administration, DOT.

ACTION: Final rule; request for comments.

SUMMARY: This action modifies regulations governing security control of air traffic. Specifically, this action revises the boundaries of the Air Defense Identification Zones surrounding the contiguous United States and Alaska and amends the flight plan and communications requirements for pilots planning flight into, within, or whose departure point is within any of these zones. This action conforms the security control of air traffic regulations with Presidential Proclamation No. 5928; supports the Department of Defense in accomplishing its national defense and drug interdiction missions; and assists law enforcement agencies in their efforts to stop the transportation of illegal drugs by aircraft.

DATES: This final rule is effective on November 13, 2001. Comments for inclusion in the Rules Docket must be received on or before November 13, 2001.

ADDRESSES: Address your comments to the Docket Management Systems, U.S. Department of Transportation, Room PL, 401 Seventh Street, SW., Washington, DC 20590-0001. You must identify the docket number at the beginning of your comments, and you should submit two copies of your comments. If you wish to receive confirmation that FAA has received your comments, include a self-addressed, stamped postcard.

You may also submit comments through the Internet to http://dms.dot.gov. You may review the public docket containing comments on these regulations in person in the Dockets Office between 9 a.m. and 5 p.m., Monday through Friday, except Federal holidays. The Dockets Office is on the plaza level of the Nassif Building at the Department of Transportation at the above address. Also, you may review public dockets on the Internet at http://dms.dot.gov.

FOR FURTHER INFORMATION CONTACT: Sheri Edgett Baron, Airspace and Rules Division, ATA-400, Office of Air Traffic Airspace Management, Federal Aviation Administration, 800 Independence Avenue, SW., Washington, DC 20591; telephone (202) 267-8783.

SUPPLEMENTARY INFORMATION:

Comments Invited

Although this action is in the form of a final rule and was not preceded by a notice of proposed rulemaking, we invite you comments on this rule. The most useful comments are those that are specific, related to issues raised by the rule, and that explain the reason for any recommended change. To ensure consideration, you must identify the Rules Docket number in your comments, and you must submit comments to the address specified under the ADDRESSES section of this preamble. We will consider all communications received on or before the closing date for comments, and we may amend or withdraw this rule in light of the comments received. Factual information that supports your ideas and suggestions is extremely helpful in evaluating the effectiveness of this action and determining whether additional rulemaking action is needed.

We specifically invite comments on the overall regulatory, economic, environmental, and energy aspects of the rule that might suggest a need to modify the rule. All comments submitted will be available, both before and after the closing date for comments, in the Rules Docket for examination by interested persons. We will file in the Rules Docket a report that summarizes each public contract related to the substance of this rule.

If you want us to acknowledge receipt of your comments submitted in response to this rule, you must include with your comments a self-addressed, stamped postcard on which you identify the Rules Docket number of this rulemaking. We will date stamp the postcard and return it to you.

Availability of Rulemaking Documents

You can get an electronic copy from the Department of Transportation's web site by taking the following steps:

1. Go to the search function of the Department of Transportation's electronic Docket Management System (DMS) web page (http://dms.dot.gov/search).

2. On the search page type in the last four digits of the Docket number shown at the beginning of this notice. Click on “Search”.

3. On the next page, which contains the Docket summary information for the Docket you selected, click on the document number for the item you wish to view.

You can also get an electronic copy using the Internet through FAA's web page at http://www.faa.gov/avr/arm/nprm/nprm.htm or through the Federal Register's web page at http:/www.access.gpo.gov/su_docs/aces/aces140.html.

You can get a paper copy by submitting a request to the Federal Aviation Administration, Office of Rulemaking, ARM-1, 800 Independence Avenue SW., Washington, DC 20591, or by calling (202) 267-9680. Make sure to identify the docket number of this rulemaking.

Background

On December 27, 1988, the President issued Proclamation No. 5928, Territorial Sea of the United States of America (54 FR 777, Jan. 9, 1989), which extended the boundaries of the territorial sea of the United States from 3 to 12 nautical miles from U.S. shorelines for international purposes. The territorial sea is a maritime zone extending beyond the shorelines, including the airspace, of the United States over which it exercises sovereignty and jurisdiction. The President issued Proclamation No. 5928 to advance National Security and other significant interests.

Although Proclamation No. 5928 extended the physical boundaries of the territorial seas, it did not extend the jurisdiction of any state or Federal law, nor did it alter the geographical boundaries of the national borders and territorial waters within three miles of the United States. As a result, the definition for “United States” contained in Title III of the Federal Aviation Act of 1958 (FAAct), since codified in 49 U.S.C. 1341-1355, was not changed by Proclamation No. 5928. Consequently, the definition contained in the FAAct for “United States” did not apply to the annexed territorial sea between three to twelve nautical miles from the U.S. shorelines.

Annex 2 of the Chicago Convention on International Civil Aviation obligates its members to adopt measures to insure that aircraft operating within its airspace comply with its air traffic rules and “Rules of the Air.” In addition, members are required to enforce their applicable regulations. Rules of the air imposed by the United States are found in Title 14 of the Code of Federal Regulations (14 CFR) part 91, among other regulations. However, for the reasons explained earlier, these rules could not be applied to the territorial seas between 3 and 12 nautical miles of United States shorelines, even though these areas could no longer qualify as “open sea.” In order to correct the lapse in U.S. jurisdiction over the annexed airspace, the Federal Aviation Administration (FAA or “we”) initiated several rulemaking actions.

On January 4, 1989, the FAA issued a final rule entitled Special Federal Aviation Regulation No. 53 (54 FR 264, Jan. 4, 1989) to coincide with the territorial jurisdiction adopted by the United States under Proclamation No. 5928. This final rule amended 14 CFR parts 71 and 91 to extend controlled airspace and the applicability of flight rules to the territorial seas between three and twelve nautical miles of U.S. shorelines.

On August 11, 1994, the Department of Defense (DoD) petitioned the FAA to initiate rulemaking to update 14 CFR part 99, which governs security control of air traffic. The petition requested extension of the boundaries of the inner air defense identification zone (ADIZ) to 12 nautical miles to reflect changes made by Proclamation No. 5928. The petition also asked for changes to streamline the identification of aircraft operating in an ADIZ. The DoD is the lead agency charged with the responsibility for aerial detection and monitoring of drug smuggling, especially in the ADIZ. An ADIZ is an area of airspace over land or water in which the ready identification, location, and control of civil aircraft is required in the interest of national security. Airspace designated as an ADIZ exists throughout the contiguous U.S., Alaska, Hawaii, and Guam.

The DoD also requested that the FAA take action: (1) To add and define the term “aeronautical facility,”; (2) to require pilots to activate and close a flight plan when flying into, within, or when the departure point is within an ADIZ; and (3) to require pilots to maintain a continuous listening watch on the appropriate aeronautical facility's frequency when operating an aircraft into, within, or when the departure point is within an ADIZ. The DoD requested these changes to help accomplish their national defense and drug interdiction mission, and assist law enforcement agencies in their efforts to stop the use of aircraft for the illegal transportation of drugs.

In response to the DoD petition, the FAA published a notice in the Federal Register to inform interested parties of the requested changes and to solicit comments (60 FR 36746, July 18, 1995). The FAA received one comment in response to the Notice from the Air Line Pilots Association (ALPA). ALPA concurred with the petition stating, “[t]he changes will enable the DOD to more efficiently carry out its mission of detection and monitoring of drug smuggling and this will improve the safety of all aircraft operations in the [air defense identification zones].”

Based on our review of the DoD petition and the comment received from ALPA, the FAA has determined that it is in the public interest to grant the petition and amend 14 CFR part 99 by issuing a final rule that is immediately effective. Under our regulations (14 CFR 11.11), we may use a type of immediately effective final rule that we call a “final rule with request for comment.” A final rule with request for comment is a rule that invites public comment on a rule that we are issuing in final (with an effective date). We usually do this when we have not first issued a notice of proposed rulemaking (NPRM) because we have found that doing so would be impractical, unnecessary, or contrary to the public interest.

In this case, we have determined that issuing an NPRM is both unnecessary and contrary to the public interest. An NPRM is unnecessary because we do not anticipate any substantive comments. In the most recent rulemaking affecting part 99, we received no adverse comments (See 53 FR 18216, May 20, 1988, a final rule changing the lateral boundaries of ADIZ). As discussed earlier in this preamble, when we published the July 1995 notice announcing receipt of the DoD petition, we received only one comment, and it was favorable. Issuing a proposed rule is also contrary to the public interest because it would further delay the establishment of rules that will hinder the smuggling of illegal drugs and protect public safety.

The Rule

In this final rule, the FAA is taking four actions: First, the FAA is creating a definition for the term “aeronautical facility.” Second, FAA is modifying the airspace boundaries of the contiguous U.S. and Alaska ADIZs to conform, in part, with Presidential Proclamation No. 5928. Third, the FAA is amending regulations that require pilots operating into, within, or whose departure point is within an ADIZ to activate and close their flight plans. Fourth, the FAA is amending the regulations to require that pilots operating aircraft into, within, or whose departure point is within an ADIZ maintain a continuous listening watch on the appropriate aeronautical facility's frequency. The FAA is making these changes to protect aircraft from the flight practices of persons conducting illegal drug activities that may create safety hazards. Aircraft used to conduct illegal drug activities frequently fly at low altitude and high speed to avoid radar detection. This practice increases the risk of midair collision or loss of aircraft control and poses a threat to aircraft used in legitimate operations and for persons and property on the ground. The FAA also believes that requiring pilots to activate and close a flight plan and to maintain a continuous listening watch on the appropriate aeronautical facility's frequency will provide necessary tracking information to the DoD. Using this information, the DoD and law enforcement agencies can quickly identify aircraft involved in illegal operations resulting in the fewer safety hazards created by aircraft involved in illegal drug activities.

Section-by-Section Analysis of the Final Rule

Section 99.1 Applicability

In this rule, we are amending paragraph (b)(2) of this section to be consistent with Presidential Proclamation No. 5928, which extended the boundaries of the territorial sea of the United States from 3 to 12 nautical miles from U.S. shorelines for international purposes. We are also making an editorial change to previous paragraph (c), which established a radio-operating requirement. As discussed later in the preamble, we are moving the substance of previous paragraph (c) to § 99.9, entitled “Radio requirements.” As a result, we are renumbering previous paragraph (d), which remains in all other respects unchanged, as paragraph (c).

Section 99.3 Definitions

In this rule, we are making several changes to this section. Previous § 99.3 was titled “General,” but this section primarily contained definitions used under part 99. We are therefore changing the heading of § 99.3 from “General” to “Definitions,” which is a more accurate description of its contents. The FAA has decided to retain, with slight editorial changes, the three terms defined in this section, “air defense identification zone,” “defense area,” and “defense visual flight rules (DVFR) flight.” Also, in response to the DoD's request, we are adding a definition of “aeronautical facility.” The Office of the Federal Register (Federal Register) recommends that paragraph designations not be used with definitions. Instead, the Federal Register recommends listing definitions in alphabetical order. See “Federal Register Document Drafting Handbook,” section 8.15, Office of the Federal Register, National Archives and Records Administration, Oct. 1998. In order to conform to the Federal Register's preferred formatting, we are eliminating the paragraph designations from § 99.3 and listing the definitions in alphabetical order.

The definition of “aeronautical facility,” for the purposes of part 99, is a communications facility where flight plans or position reports are normally filed during flight operations. We are adding this definition simply for clarity and do not intend for this addition to be a substantive change in the regulations.

Section 99.9 Radio Requirements

In this rule, we are adding new requirements to § 99.9, which clarify the existing regulation, and we are changing its format. Previous § 99.9 provided a short paragraph prohibiting the operation of an aircraft in an ADIZ unless it was equipped with a radio. We are now amending this section to add paragraph (a) which requires that all pilots maintain a continuous listening watch on the appropriate aeronautical facility's frequency when operating an aircraft into, within, or whose departure point is within an ADIZ.

By “into” an ADIZ, we intend to apply the requirement to pilots operating aircraft whose departure point is outside an ADIZ and who subsequently enter the ADIZ. These pilots would have to maintain a continuous listening watch from the time the aircraft enter the ADIZ until they exit or land within the ADIZ.

By “within” an ADIZ, we intend to apply the requirement to pilots operating aircraft transiting an ADIZ. These pilots would have to maintain a continuous listening watch from the time the aircraft enter the ADIZ until they exit the ADIZ.

By aircraft “whose departure point is within” an ADIZ, we intend to apply the requirement to pilots who take off from a point within an ADIZ, such as an island or drilling platform, and who subsequently exit the ADIZ. These pilots would have to maintain a continuous listening watch from the time the aircraft takeoff until they exit the ADIZ.

Prior to this rulemaking, only pilots operating in the Alaska ADIZ were required to monitor the appropriate frequency. The FAA believes this new requirement will expedite the FAA's ability to identify, track or contact aircraft operating in an ADIZ. Once identified, the appropriate government agency will be able to distinguish legitimate aircraft operations from illegal operations.

We are also moving and re-designating the requirement in previous § 99.1(c) as new § 99.9(b) and making editorial changes. These changes are not substantive and do not change existing requirements under part 99. The reason for this action is simply to group all radio-related requirements in one place. This action should make the regulations easier to understand.

Section 99.11 ADIZ Flight Plan Requirements

We are making one change to § 99.11(a), to require pilots, in addition to the current requirement to file a flight plan, to activate and close their flight plan with the appropriate aeronautical facility when operating aircraft into, within, or when the departure point is within an ADIZ. Before this rulemaking, pilots were required only to file the flight plan. On occasion, pilots do not activate their filed flight plans. When this occurs, the aircraft are considered unknown, and military aircraft are deployed to intercept and identify the aircraft. On other occasions, pilots do not properly close their flight plans after reaching their final destinations. This causes the initiation of search-and-rescue efforts to locate the aircraft. In both cases, resources are expended needlessly.

The FAA believes that this requirement will eliminate the costs associated with unnecessary intercept and search-and-rescue efforts. In addition, these requirements will provide an increased level of public safety by limiting or reducing the use of aircraft to conduct drug smuggling without placing an undue burden on the public. Smugglers typically fly at low altitude and at high speed to avoid radar detection. This practice can result in mid-air collisions or loss of control of the aircraft and poses a threat to aircraft used in legitimate operations and to persons and property on the ground.

Subpart B—Designated Air Defense Identification Zones

Section 99.42 Contiguous U.S. ADIZ and Section 99.43 Alaska ADIZ

As discussed earlier in this preamble, we are changing the boundaries of the contiguous United States and Alaska ADIZ to extend 12 nautical miles from U.S. shorelines. Before the rulemaking, the boundaries extended only three nautical miles beyond the U.S. shorelines. We are accomplishing this by substituting in each section a new sets of points (described by latitude and longitude) that establish the boundaries of the ADIZs when connected by lines. This action aligns the ADIZ boundaries with the territorial sea of the United States. This action conforms to the Presidential proclamation extending the jurisdiction of the United States, supports the Department of Defense in accomplishing its national defense and drug interdiction missions, and assists law enforcement agencies in their efforts to stop the transport of illegal drugs across the Nation's borders by aircraft.

Procedural Matters

Small Business Regulatory Enforcement Fairness Act

The Small Business Regulatory Enforcement Fairness Act of 1996 (SBREFA), Public Law 104-121, requires FAA to comply with small entity requests for information or advice about compliance with statutes and regulations within its jurisdiction. Therefore, small entities that have a question regarding this document may contact their local FAA official, or the person listed under the FOR FURTHER INFORMATION CONTACT section of this preamble. You can find out more about SBREFA on the Internet at our site, http://www.gov/avr/arm/sbrefa.htm. For more information on SBREFA, e-mail us at 9-AWA-SBREFA@faa.gov.

Paperwork Reduction Act

This rule does not require the collection of any information under the Paperwork Reduction Act (44 U.S.C. 3501 et seq.). An agency may not conduct or sponsor, and a person is not required to respond to a collection of information unless it displays a currently valid Office of Management and Budget (OMB) control number.

Regulatory Flexibility Act, Trade Impact Assessment, and Unfunded Mandates Assessment

Changes to Federal Regulations must undergo several economic analyses. First, Executive Order 12866 directs that each Federal agency shall propose or adopt a regulation only upon a reasoned determination that the benefits of the intended regulation justify its costs. Second, the Regulatory Flexibility Act requires agencies to analyze the economic effect of regulatory changes on small businesses and other small entities. Third, the Office of Management and Budget directs agencies to assess the effect of regulatory changes on international trade. In conducting these analyses, the FAA has determined that the final rule: (1) Will generate benefits that justify its negligible costs and is not a “significant regulatory action” as defined in the Executive Order; (2) is not significant as defined in the Department of Transportation's Regulatory Policies and Procedures; (3) will not have a significant impact on a substantial number of small entities; (4) will not constitute a barrier to international trade; and (5) will not contain any Federal intergovernmental or private sector mandate. These analyses are summarized here in the preamble, and the full Regulatory Evaluation is in the docket.

This final rule will modify the boundaries of the contiguous U.S. and Alaska ADIZ, amend flight plan and communications requirements for pilots planning flight into, within, or whose departure point is within an ADIZ, and add the definition “aeronautical facility'' to § 99.3.

This final rule will also reduce the costs associated with unnecessary intercepts. The final rule will impose no additional administrative or operational costs on the FAA. It will also make Part 99 consistent with Presidential Proclamation No. 5928, and provide the necessary tracking information to assist DoD and law enforcement agencies in identifying aircraft involved in illegal operations, thereby, reducing the safety hazards created by aircraft involved in illegal drug activities.

Regulatory Flexibility Determination

The Regulatory Flexibility Act of 1980 (RFA) establishes “as a principle of regulatory issuance that agencies shall endeavor, consistent with the objective of the rule and of applicable statutes, to fit regulatory and informational requirements to the scale of the business, organizations, and governmental jurisdictions subject to regulation.” To achieve that principle, the RFA requires agencies to solicit and consider flexible regulatory proposals and to explain the rationale for their actions. The RFA covers a wide-range of small entities, including small businesses, not-for-profit organizations and small governmental jurisdictions.

Agencies must perform a review to determine whether a proposed or final rule will have a significant economic impact on a substantial number of small entities. If the determination is that it will, the agency must prepare a regulatory flexibility analysis as described in the RFA.

However, if an agency determines that a proposed or final rule is not expected to have a significant economic impact on a substantial number of small entities, section 605(b) of the RFA provides that the head of the agency may so certify and an regulatory flexibility analysis is not required. The certification must include a statement providing the factual basis for this determination, and the reasoning should be clear.

In view of the absence of any cost impact of the rule on small entities, the FAA has determined that this final rule won't have a significant economic impact on a substantial number of small entities.

Accordingly, pursuant to the Regulatory Flexibility Act, 5 U.S.C. 605(b), the Federal Aviation Administration certifies that this rule will not have a significant economic impact on a substantial number of small entities.

International Trade Impact Assessment

The Trade Agreement Act of 1979 prohibits Federal agencies from engaging in any standards or related activities that create unnecessary obstacles to the foreign commerce of the United States. Legitimate domestic objectives, such as safety, are not considered unnecessary obstacles. The statute also requires consideration of international standards and where appropriate, that they be the basis for U.S. standards.

This final rule will not constitute a barrier to international trade, including the export of U.S. goods and services to foreign countries or the import of foreign goods and services into the United States.

Unfunded Mandates Assessment

The Unfunded Mandates Reform Act of 1995 (the Act), enacted as Public Law 104-4 on March 22, 1995, is intended, among other things, to curb the practice of imposing unfunded Federal mandates on State, local, and tribal governments.

Title II of the Act requires each Federal agency to prepare a written statement assessing the effects of any Federal mandate in a proposed or final agency rule that may result in a $100 million or more expenditure (adjusted annually for inflation) in any one year by State, local, and tribal governments, in the aggregate, or by the private sector; such a mandate is deemed to be a “significant regulatory action. This final rule doesn't contain such a mandate. Therefore, the requirements of Title II of the Unfunded Mandates Act of 1995 don't apply.

Executive Order 10854, Extension of the Application of the Federal Aviation Act of 1958

Since this amendment involves the designation of airspace areas outside of the United States, we have consulted with the Secretary of State, in accordance with the provisions of Executive Order 10854, to ensure that there are no conflicts with any international treaty or agreement to which the United States is a party and this action is consistent with the successful conduct of the foreign relations of the United States.

Executive Order 13132, Federalism

The FAA has analyzed this final rule under the principles and criteria of Executive Order 13132, Federalism (52 FR 41685, Oct. 30, 1987). We have determined that this action will not have a substantial direct effect on the States, or the relationship between the national Government and the States, or on the distribution of power and responsibilities among the various levels of government. Therefore, we determined that this final rule does not have federalism implications.

Plain Language

In response to the June 1, 1998 Presidential Memorandum regarding the use of plain language, the FAA re-examined the writing style currently used in the development of regulations. The memorandum requires federal agencies to communicate clearly with the public. We are interested in your comments on whether the style of this document is clear, and in any other suggestions you might have to improve the clarity of FAA communications that affect you. You can get more information about the Presidential memorandum and the plain language initiative at http://www.plainlanguage.gov.

Environmental Analysis

FAA order 1050.1D defines FAA actions that may be categorically excluded from preparations of a National Environmental Policy Act environmental impact statement. In accordance with FAA Order 1050.1D, appendix 4, paragraph 4(j), this rulemaking action qualifies for a categorical exclusion.

Energy Impact

The energy impact of the rule has been assessed in accordance with the Energy Policy and Conservation Act of 1995 (EPCA), as amended, 42 U.S.C. 6201 et seq., and FAA Order 1053.1. The FAA has determined that the rule is not a major regulatory action under the provisions of the EPCA.

List of Subjects in 14 CFR Part 99

Air traffic control, Airspace, National defense, Navigation (air), Security measures.

The Amendment

Accordingly, the Federal Aviation Administration amends Title 14 Code of Federal Regulations Part 99 as follows:

PART 99—SECURITY CONTROL OF AIR TRAFFIC

1. The authority citation for part 99 continues to read as follows:

Authority: 49 U.S.C. 106(g), 40101, 40103, 40106, 40113, 40120, 44502, and 44721.

2. The FAA is amending § 99.1 by revising paragraph (b)(2), removing paragraph (c), and redesignating paragraph (d) as paragraph (c) as follows:

Subpart A-General

§ 99.1 Applicability.

* * * * *

(b) * * *

(2) Operating at true airspeed of less than 180 knots in the Hawaii ADIZ or over any island, or within 12 nautical miles of the coastline of any island, in the Hawaii ADIZ;

* * * * *

3. The FAA is revising the section heading and the text of § 99.3 to read as follows:

§ 99.3 Definitions.

Aeronautical facility means, for the purposes of this subpart, a communications facility where flight plans or position reports are normally filed during flight operations.

Air defense identification zone (ADIZ) means an area of airspace over land or water in which the ready identification, location, and control of civil aircraft is required in the interest of national security.

Defense area means any airspace of the contiguous United States that is not an ADIZ in which the control of aircraft is required for reasons of national security.

Defense visual flight rules (DVFR) flight means, for the purposes of this subpart, a flight within an ADIZ conducted by a civil aircraft under the visual flight rules in part 91 of this title.

4. The FAA is revising § 99.9 to read as follows:

§ 99.9 Radio requirements

(a) A person who operates a civil aircraft into an ADIZ must have a functioning two-way radio, and the pilot must maintain a continuous listening watch on the appropriate aeronautical facility's frequency.

(b) No person may operate an aircraft into, within, or whose departure point is within an ADIZ unless—

(1) The person files a DVFR flight plan containing the time and point of ADIZ penetration, and

(2) The aircraft departs within five minutes of the estimated departure time contained in the flight plan.

5. The FAA is revising paragraph (a) of § 99.11 to read as follows:

§ 99.11 ADIZ flight plan requirements.

(a) Unless otherwise authorized by air traffic control, a person must not operate an aircraft into, within, or whose departure point is within an ADIZ unless the person files, activates, and closes a flight plan with the appropriate aeronautical facility.

* * * * *

6. The FAA is revising § § 99.42 and 99.43 to read as follows:

Subpart B—Designated Air Defense Identification Zones

§ 99.42 Contiguous U.S. ADIZ

The area bounded by a line from 43°15′N, 65°55′W; 44°21′N; 67°16′W; 43°10′N; 69°40′W; 41°05′N; 69°40′W; 40°32′N; 72°15′W; 39°55′N; 73°00′W; 39°38′N; 73°00′W; 39°36′N; 73°40′W; 37°00′N; 75°30′W; 36°10′N; 75°10′W; 35°10′N; 75°10′W; 32°00′N; 80°30′W; 30°30′N; 81°00′W; 26°40′N; 79°40′W; 25°00′N; 80°05′W; 24°25′N; 81°15′W; 24°20′N; 81°45′W; 24°30′N; 82°06′W; 24°41′N; 82°06′W; 24°43′N; 82°00′W; 25°00′N; 81°30′W; 25°10′N; 81°23′W; 25°35′N; 81°30′W; 26°15′N 82°20′W; 27°50′N; 83°05′W; 28°55′N; 83°30′W; 29°42′N; 84°00′W; 29°20′N; 85°00′W; 30°00′N; 87°10′W; 30°00′N; 88°30′W; 28°45′N; 88°55′W; 28°45′N; 90°00′W; 29°25′N; 94°00′W; 28°20′N; 96°00′W; 27°30′N; 97°00′W; 26°00′N; 97°00′W; 25°58′N; 97°07′W; westward along the U.S./Mexico border to 32°32′03′N, 117°07′25′W; 32°30′N; 117°25′W; 32°35′N; 118°30′W; 33°05′N; 119°45′W; 33°55′N; 120°40′W; 34°50′N; 121°10′W; 38°50′N; 124°00′W; 40°00′N; 124°35′W; 40°25′N; 124°40′W; 42°50′N; 124°50′W; 46°15′N; 124°30′W; 48°30′N; 125°00′W; 48°20′N; 128°00′W; 48°20′N; 132°00′W; 37°42′N; 130°40′W; 29°00′N; 124°00′W; 30°45′N; 120°50′W; 32°00′N; 118°24′W; 32°30′N; 117°20′W; 32°32′03′N; 117°07′25′W; eastward along the U.S./Mexico border to 25°58′N, 97°07′W; 26°00′N; 97°00′W; 26°00′N; 95°00′W; 26°30′N; 95°00′W; then via 26°30′N; parallel to 26°30′N; 84°00′W; 24°00′N; 83°00′W; then Via 24°00′N; parallel to 24°00′N; 79°25′W; 25°40′N; 79°25′W; 27°30′N; 78°50′W; 30°45′N; 74°00′W; 39°30′N; 63°45′W; 43°00′N; 65°48′W; to point of beginning.

§ 99.43 Alaska ADIZ.

The area is bounded by a line from 54°00′N; 136°00′W; 56°57′N; 144°00′W; 57°00′N; 145°00′W; 53°00′N; 158°00′W; 50°00′N; 169°00′W; 50°00′N; 180°00′; 50°00′N; 170°00′E; 53°00′N; 170°00′E; 60°00′00′N; 180°00′; 65°00′N; 169°00′W; then along 169°00′W; to 75°00′N; 169°00′W; then along the 75°00′N; parallel to 75°00′N, 141°00′W; 69°50′N; 141°00′W 71°18′N; 156°44′W; 68°40′N; 167°10′W; 67°00′N; 165°00′W; 65°40′N; 168°15′W; 63°45′N; 165°30′W; 61°20′N; 166°40′W; 59°00′N; 163°00′W; then south along 163°00′W to 54°00′N, 163°00′W; 56°30′N; 154°00′W; 59°20′N; 146°00′W; 59°30′N; 140°00′W; 57°00′N; 136°00′W; 54°35′N, 133°00′W; to point of beginning.

Issued in Washington, DC on September 24, 2001.
Jane F. Garvey,
Administrator.

[FR Doc. 01-24426 Filed 9-27-01; 8:45 am]

BILLING CODE 4910-13-M